DEPARTMENT OF HEALTH AND HUMAN SERVICES

American Indian/Alaska Native Health Disparities Program

AGENCY: Department of Health and Human Services, Office of the Secretary, Office of Public Health and Science, Office of Minority Health.

ACTION: Notice.

Announcement Type: Competitive Initial Announcement of Availability of Funds.

Catalog of Federal Domestic Assistance Number: The CFDA Number is pending.

DATES: To receive consideration, applications must be received by the Office of Grants Management, Office of Public Health and Science (OPHS), Department of Health and Human Services (DHHS) c/o WilDon Solutions, Office of Grants Management Operations Center, Attention Office of Minority Health, American Indian/Alaska Native Health Disparities Program, no later than 5 p.m. Eastern Time on August 6, 2007. The application due date requirement in this announcement supercedes the instructions in the OPHS-1 form.

ADDRESSES: Application kits may be obtained electronically by accessing Grants.gov at http://www.grants.gov or GrantSolutions at www.GrantSolutions.gov. To obtain a hard copy of the application kit, contact WilDon Solutions at 1-888-203-6161. Applicants may fax a written request to WilDon Solutions at (703) 351-1138 or e-mail the request to OPHSgrantinfo@teamwildon.com. Applications must be prepared using Form OPHS-1 “Grant Application,” which is included in the application kit.

FOR FURTHER INFORMATION CONTACT: WilDon Solutions, Office of Grants Management Operations Center, 1515 Wilson Blvd., Third Floor Suite 310, Arlington, VA 22209 at 1-888-203-6161, e-mail OPHSgrantinfo@teamwildon.com, or fax at 703-351-1138.

SUMMARY: This announcement is made by the United States Department of Health and Human Services (HHS or Department), Office of Minority Health (OMH) located within the Office of Public Health and Science (OPHS), and working in a “One-Department” approach collaboratively with participating HHS agencies and programs (entities). As part of a continuing HHS effort to improve the health and well being of racial and ethnic minorities, the Department announces availability of FY 2007 funding for the American Indian/Alaska Native Health Disparities Program (hereafter referred to as the AI/AN Health Disparities Program). OMH is authorized to conduct this program under 42 U.S.C. 300 u-6, section 1707 of the Public Health Service Act, as amended. The mission of the OMH is to improve the health of racial and ethnic minority populations through the development of policies and programs that address disparities and gaps. OMH serves as the focal point in the HHS for leadership, policy development and coordination, service demonstrations, information exchange, coalition and partnership building, and related efforts to address the health needs of racial and ethnic minorities. OMH activities are implemented in an effort to address Healthy People 2010, a comprehensive set of disease prevention and health promotion objectives for the Nation to achieve over the first decade of the 21st century (http://www.healthypeople.gov). This funding announcement is also made in support of the OMH National Partnership for Action initiative. The mission of the National Partnership for Action is to work with individuals and organizations across the country to create a Nation free of health disparities with quality health outcomes for all by achieving the following five objectives: Increasing awareness of health disparities; strengthening leadership at all levels for addressing health disparities; enhancing patient-provider communication; improving cultural and linguistic competency in delivering health services; and better coordinating and utilizing research and outcome evaluations.

The AI/AN Health Disparities Program is intended to strengthen the capacity of Tribal Epidemiology Centers (TECs) to collect and manage data more effectively and to better understand and develop the link between public health problems and behavior, socioeconomic conditions, and geography. The establishment of the TECs was authorized by Congress to provide support to tribes in the areas of health data acquisition, analysis, and interpretation. The TECs were identified for this program because they are uniquely positioned to be effective in disease surveillance and control programs, assessing the effectiveness of public health programs and recognizing the significance and complexities of tribal communities, and understand their distinct operating systems. TECs recognize the challenge of adapting their services to geographically isolated communities, whose access to information, technology, data, and manpower varies considerably by tribe. TECs must possess a breadth of knowledge about a multitude of health topics, housing, social and economic issues, and evidence-based methodologies to better inform decision-making and planning. TECs recognize the importance of providing services in a culturally sensitive manner, and understand and appreciate tribal history and customs.

Health disparities continue to plague the American Indian and Alaska Native communities. Tribal leaders have discussed with HHS the numerous health issues that affect their communities and the dearth of American Indian and Alaska Native health professionals. According to the Centers for Disease Control and Prevention:

• Heart disease and cancer are the leading causes of death among American Indians and Alaska Natives;

• American Indian and Alaska Native adults are 60% more likely to have a stroke than white adults are;

• American Indians and Alaska Natives have a 40% higher AIDS rate than their non-Hispanic counterparts do;

• The age-adjusted prevalence of diabetes for American Indians and Alaska Natives is over twice that for all U.S. adults;

• The infant mortality rate for the American Indian and Alaska Native populations is 1.7 times higher than the non-Hispanic white population; and

• The sudden infant death syndrome (SIDS) rate is the highest of any population group, more than double that of whites in 1999.

However, unlike other ethnic minority groups, American Indians and Alaska Natives frequently contend with issues such as: geographic isolation, inadequate sewage disposal, and occasional conflicts between western medical practices and traditional spiritual beliefs, which prevent them from receiving quality medical care.

The American Indian/Alaska Native Health Disparities Program is designed to address these barriers to healthcare as well as concerns raised by Tribal Leaders regarding the lack of American Indian and Alaska Native healthcare professionals, paraprofessionals, and researchers by funding tribal epidemiology centers (TECs). TEC activities include:

• Data collection;

• Evaluating existing delivery systems, data systems, and other systems that impact the improvement of American Indian and Alaska Native health;

• Assisting tribes and urban American Indian and Alaska Native communities in identifying their highest priority health status objectives and the services needed to achieve such objectives, based on epidemiological data;

• Making recommendations for the targeting of services needed by tribal, urban, and other American Indian and Alaska Native communities; and

• Making recommendations to improve healthcare delivery systems for American Indians and Alaska Natives.

However, the mission of TECs is not limited to epidemiological research. TECs are also responsible for the development and implementation of disease control and prevention programs in addition to the coordination of activities with other public health authorities in the region. Different from other potential grant applicants, TECs are ideally situated to work locally and be responsive to the needs and sensitivities of tribal communities while cultivating close collaborative relationships with State and Federal agencies and academic departments. Because of this potential to serve as a bridge between the American Indian and Alaska Native communities and institutions of higher learning, TECs are excellent vehicles for:

• Providing research internships and opportunities to current and future American Indian and Alaska Native health professionals;

• Increasing awareness within the American Indian and Alaska Native populations of the need for healthcare professionals;

• Disseminating information about educational opportunities in the healthcare field; and

• Working cooperatively with tribal providers of health and social services in order to avoid duplication of existing services.

In FY 2007 the AI/AN Health Disparities Program will support projects that enhance the TECs' capacity to carry out disease surveillance, including the interpretation and dissemination of surveillance data; address vital statistics needs; conduct epidemiologic analysis; investigate disease outbreaks; develop disease control and prevention strategies and programs; and/or coordinate with other health agencies in the region. In addition, to building their data capacity, TECs may form collaborative partnerships and alliances to improve access to quality health and human services, and/or design programs to increase the number of American Indians and Alaska Natives serving as health professionals, para-professionals, and researchers. OMH recognizes the importance of optimizing the use of Federal resources and makes this announcement with the expectation of coordinating its efforts under this program with other HHS agencies that support the TECs (e.g., AHRQ, CDC, IHS, NIH) to ensure that activities are complementary and not duplicative.

SUPPLEMENTARY INFORMATION:

Table of Contents

Section I. Funding Opportunity Description

1. Purpose

2. OMH Expectations

3. Applicant Project Results

4. Project Requirements

Section II. Award Information

Section III. Eligibility Information

1. Eligible Applicants

2. Cost Sharing or Matching

3. Other

Section IV. Application and Submission Information

1. Address to Request Application Package

2. Content and Form of Application Submission

3. Submission Dates and Times

4. Intergovernmental Review

5. Funding Restrictions

Section V. Application Review Information

1. Criteria

2. Review and Selection Process

3. Anticipated Award Date

Section VI. Award Administration Information

1. Award Notices

2. Administrative and National Policy Requirements

3. Reporting Requirements

Section VII. Agency Contacts

Section VIII. Other Information

1. Healthy People 2010

2. Definitions

Section I. Funding Opportunity Description

1. Purpose

The purpose of the AI/AN Health Disparities Program is to improve the effectiveness of efforts to eliminate health disparities for American Indian and Alaska Native communities through increased access and utilization of data and data-related activities. Through this FY 2007 announcement, the OMH is promoting utilization of epidemiological data to identify high priority health status objectives and to make recommendations relative to the services and/or activities required to address those objectives. Support will also be provided to projects that include the development of alliances and partnerships to improve coordination of and access to quality health services, and/or the development of programs designed to increase the representation of the American Indians/Alaska Natives in the healthcare workforce (including research positions).

2. OMH Expectations

It is intended that the AI/AN Health Disparities Program will result in:

Enhanced data collection/utilization to identify highest priority health status objectives and services needed to achieve such objectives; and

Development of alliances and partnerships which improve coordination/alignment of health and human services; and/or

Provision of technical training in public health practices and prevention oriented research to create public health career pathways for tribal members.

3. Applicant Project Results

Applicants must identify at least 3 of the 4 following anticipated project results that are consistent with the AI/AN Health Disparities Program overall and OMH expectations:

Increased awareness of health disparities;

Strengthening of leadership at all levels for addressing health disparities;

Improved cultural and linguistic competency; and/or

Improved coordination and utilization of research and outcome evaluations.

The outcomes of these projects will be used to develop other national efforts to address health disparities among American Indian and Alaska Native populations.

4. Project Requirements

Each applicant under the AI/AN Health Disparities Program must implement activities designed to enhance effective data collection and management methods to create better understanding and development of the link between public health problems, behavior, socioeconomic conditions, and geography. Applicants must also propose to conduct activities related to at least one of the following:

Establishment of partnerships and development of systems to improve coordination and continuity of access to quality health and human services; or

Development of methods to establish career pathways for AI/AN health care professionals, paraprofessionals, and researchers.

Section II. Award Information

Estimated Funds Available for Competition: $1,000,000 in FY 2007.

Anticipated Number of Awards: 4.

Range of Awards: $175,000 to $250,000 per year.

Anticipated Start Date: September 1, 2007.

Period of Performance: 5 Years (September 1, 2007 to August 31, 2012).

Budget Period Length: 12 months.

Type of Award: Grant.

Type of Application Accepted: New.

Section III. Eligibility Information

1. Eligible Applicants

To qualify for funding, an applicant must be one of the 12 established Tribal Epidemiologic Centers currently supported by the Indian Health Service.

The organization submitting the application will:

Serve as the lead agency for the project, responsible for its implementation and management; and

Serve as the fiscal agent for the Federal grant awarded.

OMH encourages TECs to work collaboratively on this project. Applications from a group or consortium of TECs must identify one of its members as the lead agency for the project.

To demonstrate coordination between the TEC and participating Tribes, letters of support and collaboration from the participating Tribes should be included with the application.

2. Cost Sharing or Matching

Matching funds are not required for the AI/AN Health Disparities Program.

3. Other

If funding is requested in an amount greater than the ceiling of the award range, the application will be considered non-responsive and will not be entered into the review process. The application will be returned with notification that it did not meet the submission requirements.

Applications that are not complete or that do not conform to or address the criteria of this announcement will be considered non-responsive and will not be entered into the review process. The application will be returned with notification that it did not meet the submission requirements.

An organization may submit no more than one application to the AI/AN Health Disparities Program. Organizations submitting more than one proposal for this grant program will be deemed ineligible. The multiple proposals from the same organization will be returned without comment.

Organizations are not eligible to receive funding from more than one OMH grant program to carry out the same project and/or activities.

Section IV. Application and Submission Information

1. Address To Request Application Kit

Application kits for the AI/AN Health Disparities Program may be obtained by accessing Grants.gov at http://www.grants.gov or the GrantSolutions system at http://www.grantsolutions.gov. To obtain a hard copy of the application kit for this grant program, contact WilDon Solutions at 1-888-203-6161. Applicants may also fax a written request to WilDon Solutions at (703) 351-1138 or e-mail the request to OPHSgrantinfo@teamwildon.com. Applications must be prepared using Form OPHS-1, which can be obtained at the Web sites noted above.

2. Content and Form of Application Submission

A. Application and Submission

Applicants must use Grant Application Form OPHS-1 and complete the Face Page/Cover Page (SF 424), Checklist, and Budget Information Forms for Non-Construction Programs (SF 424A). In addition, the application must contain a project narrative. The project narrative (including summary and appendices) is limited to 75 pages double-spaced. The narrative description of the project must contain the following, in the order presented:

Table of Contents.

Project Summary: Describe key aspects of the Background, Objectives, Program Plan, and Evaluation Plan. The summary is limited to 3 pages.

Background:

Statement of Need: Describe and document, with data, demographic information of the targeted local geographic area(s) that are to be included in the project, the significance and prevalence of health problems or issues, gaps in services affecting the local targeted communities. Describe demographics of the local American Indian and Alaska Native populations expected to be affected by the project.

Experience: Discuss the applicant organization's background and experience in managing projects/activities, especially those targeting the population to be served. Indicate where the project will be administered within the applicant organization's structure and the reporting channels. Provide a chart of the proposed project's organizational structure, showing who will report to whom.

Objectives: Provide objectives stated in measurable terms including baseline data, improvement targets, and time frames for achievement for the five-year project period.

Program Plan: Provide a plan which clearly describes how the project will be carried out. Describe specific activities and strategies planned to achieve each objective. For each activity, describe how, when, where, by whom, and for whom the activity will be conducted. Describe methods to be employed to enhance data access, collection and utilization. Describe any special studies to be conducted that will inform and enhance the ability of the TECs to collect and manage data more effectively, to better understand and develop the link between public health problems and behavior, and to help guide health policy and action for prioritizing health status objectives and monitor progress toward meeting those objectives. Describe the role of each participating Tribe, tribal organization, and/or other partner involved in project activities. Provide a description of the proposed program staff, including résumés and job descriptions for key staff, qualifications and responsibilities of each staff member, and percent of time each will commit to the project. Provide a description of duties for any proposed consultants. Describe any products to be developed by the project. Provide a time line for each of the five years of the project.

Evaluation Plan: Delineate how program activities will be evaluated. The evaluation plan must clearly articulate how the project will be evaluated to determine if the intended results have been achieved. The evaluation plan must describe, for all funded activities:

Intended results (i.e., impacts and outcomes);

How impacts and outcomes will be measured (i.e., what indicators or measures will be used to monitor and measure progress toward achieving project results);

Methods for collecting and analyzing data on measures;

Evaluation methods that will be used to assess impacts and outcomes;

Evaluation expertise that will be available for this purpose;

How results are expected to contribute to the objectives of the Program as a whole, and Healthy People 2010 goals and objectives; and

The potential for replicating the evaluation methods for similar efforts.

Discuss plans and describe the vehicle (e.g., manual, CD) that will be used to document the steps which others may follow to replicate the proposed project in similar communities.

Describe plans for disseminating project results.

Appendices:

—Submit letters of support from collaborating tribal partners and other collaborating organizations (if applicable).

—Include other relevant information in this section.

In addition to the project narrative, the application must contain a detailed budget justification which includes a narrative explanation and indicates the computation of expenditures for each year for which grant support is requested. The budget request must include funds for key project staff to attend an annual OMH grantee meeting. (The budget justification does not count toward the page limitation.)

B. Data Universal Numbering System Number (DUNS)

Applications must have a Dun & Bradstreet (D&B) Data Universal Numbering System number as the universal identifier when applying for Federal grants. The D&B number can be obtained by calling (866) 705-5711 or through the Web site at http://www.dnb.com/us/.

3. Submission Dates and Times

To be considered for review, applications must be received by the Office of Public Health and Science (OPHS), Office of Grants Management, c/o WilDon Solutions, by 5 p.m. Eastern Time on August 6, 2007. Applications will be considered as meeting the deadline if they are received on or before the deadline date. The application due date requirement in this announcement supercedes the instructions in the OPHS-1 form.

Submission Mechanisms

OPHS provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided by the Grants.gov and GrantSolutions.gov systems is strongly encouraged. Applications may only be submitted electronically via the electronic submission mechanisms specified below. Any applications submitted via any other means of electronic communication, including facsimile or electronic mail, will not be accepted for review.

In order to apply for new funding opportunities which are open to the public for competition, you may access the Grants.gov Web site portal. All OPHS funding opportunities and application kits are made available on Grants.gov. If your organization has/had a grantee business relationship with a grant program serviced by the OPHS Office of Grants Management, and you are applying as part of ongoing grantee related activities, please access GrantSolutions.gov.

Electronic grant application submissions must be submitted no later than 5 p.m. Eastern Time on the deadline date specified in the DATES section of the announcement using one of the electronic submission mechanisms specified below. All required hardcopy original signatures and mail-in items must be received by the OPHS Office of Grants Management, c/o WilDon Solutions, no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, and, if required, must contain the original signature of an individual authorized to act for the applicant agency and the obligations imposed by the terms and conditions of the grant award. When submitting the required forms, do not send the entire application. Complete hard copy applications submitted after the electronic submission will not be considered for review.

Electronic applications submitted via the Grants.gov Web site Portal must contain all completed online forms required by the application kit, the Program Narrative, Budget Narrative, and any appendices or exhibits. All required mail-in items must be received by the due date requirements specified above. Mail-In items may only include publications, resumes, or organizational documentation. When submitting the required forms, do not send the entire application. Complete hard copy applications submitted after the electronic submission will not be considered for review.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package. All applications submitted via the Grants.gov Web site Portal will be validated by Grants.gov. Any applications deemed “Invalid” by the Grants.gov Web site Portal will not be transferred to the GrantSolutions system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the GrantSolutions System

OPHS is a managing partner of the GrantSolutions.gov system. GrantSolutions is a full life-cycle grants management system managed by the Administration for Children and Families, Department of Health and Human Services (HHS), and is designated by the Office of Management and Budget (OMB) as one of the three Government-wide grants management systems under the Grants Management Line of Business initiative (GMLoB). OPHS uses GrantSolutions for the electronic processing of all grant applications, as well as the electronic management of its entire Grant portfolio.

When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative, and any appendices or exhibits. The applicant may identify specific mail-in items to be sent to the Office of Grants Management separate from the electronic submission; however these mail-in items must be entered on the GrantSolutions Application Checklist at the time of electronic submission, and must be received by the due date requirements specified above. Mail-In items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. Eastern Time on the deadline date specified in the DATES section of the announcement. The application deadline date requirement specified in this announcement supersedes the instructions in the OPHS-1. Applications that do not meet the deadline will be returned to the applicant unread.

4. Intergovernmental Review

The Executive Order 12372 “Intergovernmental Review of Federal Programs” does not apply to this program. The Public Health System Impact Statement (PHSIS) does not apply to this program.

5. Funding Restrictions

Budget Request If funding is requested in an amount greater than the ceiling of the award range, the application will be considered non-responsive and will not be entered into the review process. The application will be returned with notification that it did not meet the submission requirements.

Grant funds may be used to cover costs of:

Personnel

Consultants

Equipment

Supplies (including screening and outreach supplies)

Grant-related travel (domestic only), including attendance at an annual OMH grantee meeting

Other grant-related costs

Grant funds may not be used for:

Building alterations or renovations

Construction

Fund-raising activities

Job training

Medical care, treatment or therapy

Political education and lobbying

Research studies involving human subjects

Vocational rehabilitation.

Guidance for completing the budget can be found in the Program Guidelines, which are included with the complete application kit.

Section V. Application Review Information

1. Criteria

The technical review of the AI/AN Health Disparities Program applications will consider the following four generic factors listed, in descending order of weight.

A. Factor 1: Program Plan (40%)

Appropriateness and merit of proposed approach and specific activities for each objective.

Logic and sequencing of the planned approaches as they relate to the statement of need and to the objectives.

• Qualifications and appropriateness of proposed staff or requirements for “to be hired” staff and consultants.

Proposed staff level of effort.

Appropriateness of defined roles including staff reporting channels and that of any proposed consultants.

B. Factor 2: Evaluation Plan (25%)

The degree to which intended results are appropriate for the objectives of the AI/AN Health Disparities Program overall, stated objectives of the proposed project and proposed activities.

Appropriateness of the proposed methods for data collection (including demographic data to be collected on project participants), analysis, and reporting.

Suitability of process, outcome, and impact measures.

Clarity of the intent and plans to assess and document progress toward achieving objectives, planned activities, and intended outcomes.

Potential for the proposed project to impact the health status of the target population(s) relative to the health areas addressed.

Soundness of the plan to document the project for replicability in similar communities.

Soundness of the plan to disseminate project results.

Potential for replicating the evaluation methods for similar efforts by this or other applications.

C. Factor 3: Background (20%)

Demonstrated knowledge of the problem at the local level.

Significance and prevalence of targeted health issues in the proposed community and target population(s).

Extent to which the applicant demonstrates access to the target population(s), and whether it is well positioned and accepted within the community(ies) to be served.

Extent and documented outcome of past efforts and activities with the target population.

Applicant's capability to manage and evaluate the project as determined by:

The applicant organization's experience in managing project/activities involving evidence-based data and data-related activities (including special studies that informs decision-making applying evidence-based methods).

The applicant organization's experience in managing project activities involving the target population.

The applicant's organizational structure and proposed project organizational structure.

Demonstrate clear lines of authority of the applicant and partner organizations.

D. Factor 4: Objectives (15%)

Merit of the objectives.

Relevance to Healthy People 2010 and National Partnership for Action objectives.

Relevance to the AI/AN Health Disparities Program purpose and expectations, and to the stated problem to be addressed by the proposed project.

Degree to which the objectives are stated in measurable terms.

Attainability of the objectives in the stated time frames.

2. Review and Selection Process

Accepted AI/AN Health Disparities Program applications will be reviewed for technical merit in accordance with Public Health Service (PHS) policies. Applications will be evaluated by an Objective Review Committee (ORC). Committee members are chosen for their expertise in minority health and health disparities, and their understanding of the unique health problems and related issues confronted by the racial and ethnic minority populations in the United States. Funding decisions will be determined by the Deputy Assistant Secretary for Minority Health who will take under consideration:

The recommendations and ratings of the ORC; and

Geographic distribution.

3. Anticipated Award Date

September 1, 2007.

Section VI. Award Administration Information

1. Award Notices

Successful applicants will receive a notification letter from the Deputy Assistant Secretary for Minority Health and a Notice of Grant Award (NGA), signed by the OPHS Grants Management Officer. The NGA shall be the only binding, authorizing document between the recipient and the Office of Minority Health. Unsuccessful applicants will receive notification from OPHS.

2. Administrative and National Policy Requirements

In accepting this award, the grantee stipulates that the award and any activities thereunder are subject to all provisions of 45 CFR parts 74 and 92, currently in effect or implemented during the period of the grant.

The DHHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting Requirements

A successful applicant under this notice will submit: (1) Semi-annual progress reports; (2) an annual Financial Status Report; and (3) a final progress report and Financial Status Report in the format established by the OMH, in accordance with provisions of the general regulations which apply under “Monitoring and Reporting Program Performance,” 45 CFR Part 74.51-74.52, with the exception of State and local governments to which 45 CFR part 92, Subpart C reporting requirements apply.

Uniform Data Set: The Uniform Data Set (UDS) is a Web-based system used by OMH grantees to electronically report progress data to OMH. It allows OMH to more clearly and systematically link grant activities to OMH-wide goals and objectives, and document programming impacts and results. All OMH grantees are required to report program information via the UDS (http://www.dsgonline.com/omh/uds). Training will be provided to all new grantees on the use of the UDS system during the annual grantee meeting.

Grantees will be informed of the progress report due dates and means of submission. Instructions and report format will be provided prior to the required due date. The Annual Financial Status Report is due no later than 90 days after the close of each budget period. The final progress report and Financial Status Report are due 90 days after the end of the project period. Instructions and due dates will be provided prior to required submission.

Section VII. Agency Contacts

For application kits, submission of applications, and information on budget and business aspects of the application, please contact: WilDon Solutions, Office of Grants Management Operations Center, 1515 Wilson Blvd., Third Floor Suite 310, Arlington, VA 22209 at 1-888-203-6161, e-mail OPHSgrantinfo@teamwildon.com, or fax 703-351-1138.

For questions related to the AI/AN Health Disparities Grant Program or assistance in preparing a grant proposal, contact Ms. Sonsiere Cobb-Souza, Director, Division of Program Operations, Office of Minority Health, Tower Building, Suite 600, 1101 Wootton Parkway, Rockville, MD 20852. Ms. Cobb-Souza can be reached by telephone at (240) 453-8444 or by e-mail at sonsiere.cobb-souza@hhs.gov.

For additional technical assistance, contact the OMH Regional Minority Health Consultant for your region listed in your grant application kit.

For health information, call the Office of Minority Health Resource Center (OMHRC) at 1-800-444-6472.

Section VIII. Other Information

1. Healthy People 2010

The PHS is committed to achieving the health promotion and disease prevention objectives of Healthy People 2010, a PHS-led national activity announced in January 2000 to eliminate health disparities and improve years and quality of life. More information may be found on the Healthy People 2010 Web site: http://www.healthypeople.gov/ and copies of the documents may be downloaded. Copies of the Healthy People 2010: Volumes I and II can be purchased by calling (202) 512-1800 (cost $70 for a printed version; $20 for CD-ROM). Another reference is the Healthy People 2010 Final Review—2001.

For one free copy of the Healthy People 2010, contact: The National Center for Health Statistics, Division of Data Services, 3311 Toledo Road, Hyattsville, MD 20782, or by telephone at (301) 458-4636. Ask for HHS Publication No. (PHS) 99-1256. This document may also be downloaded from: http://www.healthypeople.gov.

2. Definitions

For purposes of this announcement, the following definitions apply:

Minority Populations—American Indian or Alaska Native, Asian, Black or African American, Hispanic or Latino, and Native Hawaiian or Other Pacific Islander. (42 U.S.C. 300u-6, section 1707 of the Public Health Service Act, as amended).

Tribal Epidemiology Centers—Entities whose mission includes enhancing the health and wellness of American Indian and Alaska Native communities; the implementation and enhancement of data systems; disease surveillance, bioterrorism and disease outbreak protocols; guidance of public health policy; and facilitation of disease control and prevention programs.

Tribal Organizations—Tribal organizations that may partner with TECs include Federally Recognized Indian Tribes, Tribally sanctioned non-profit tribal organizations or eligible consortium of Tribes.

Dated: June 20, 2007.
Garth N. Graham,
Deputy Assistant Secretary for Minority Health.

[FR Doc. E7-13080 Filed 7-5-07; 8:45 am]

BILLING CODE 4150-29-P